DEPARTMENT OF HEALTH AND HUMAN SERVICES

Centers for Medicare & Medicaid Services

Statement of Organization, Functions, and Delegations of Authority

AGENCY: Centers for Medicare & Medicaid Services, HHS.

ACTION: Notice.

SUMMARY: The Centers for Medicare and Medicaid Services, Center for Medicare and Medicaid Innovation (CMMI), has modified its organizational structure.

DATES: These new organizational structures were approved by the Secretary of Health and Human Services and took effect on July 27, 2023.

FOR FURTHER INFORMATION CONTACT: Joe Kane at (410) 786-0655; 7500 Security Blvd., Baltimore, MD.

SUPPLEMENTARY INFORMATION: Part F of the Statement of Organization, Functions, and Delegations of Authority for the Department of Health and Human Services, Centers for Medicare & Medicaid Services (CMS) (last amended at Federal Register, Vol. 88, No. 107, pp. 36586-36587, dated June 5, 2023) is further amended to reflect the establishment of the Division of Drug Innovation within the Center for Medicare and Medicaid Innovation (CMMI). Part F, Section FC. 10 (Organization) is revised as follows:

Center for Medicare and Medicaid Innovation (CMMI), Seamless Care Models Group, Seamless Care Models Group, Division of Health Plan Innovations

Part F, Section FC. 20 (Functions) for the new organization is as follows:

Centers for Medicare & Medicaid Services

Office of the Administrator

Center for Medicare and Medicaid Innovation

Seamless Care Models Group

Division of Drug Innovation

• Directs, designs and implements models to test alternative approaches to payment for drugs in Medicare Part B, Part D, and Medicaid to optimize access to high quality, affordable drugs.

• Seeks and develop opportunities to include Part B and Part D drugs in alternative payment models, including accountable care models, and addresses regulatory and operational issues that arise when trying to develop a model crossing different parts of the Medicare program.

• Builds relationships within CMS and HHS, with States and Medicaid agencies, and with both governmental and non-governmental entities to develop, implement, and operate innovative Medicare Part B, Part D, and Medicaid models.

• Meets with model participants and other interested parties, including relevant Government officials, representatives from the pharmaceutical industry, payers, providers, academia, and consumer advocates regarding their perspectives on innovative models, research, and ideas for new models.

• Conducts formative research studies to inform innovative payment models.

• Provides technical expertise to various CMS and non-Governmental entities on innovative Medicare Part B, Part D, and Medicaid payment and service delivery models to optimize access to affordable drugs.

Authority: 44 U.S.C. 3101.

Xavier Becerra,
Secretary of Health and Human Services.

[FR Doc. 2023-16280 Filed 7-31-23; 8:45 am]

BILLING CODE 4150-28-P